OVERSEAS PRIVATE INVESTMENT CORPORATION

[OPIC-162, OMB 3420-0019]

Submission for OMB Review; Comments Request

AGENCY: Overseas Private Investment Corporation (OPIC).

ACTION: Notice and request for comments.

SUMMARY: Under the provisions of the Paperwork Reduction Act (44 U.S.C. chapter 35), agencies are required to publish a Notice in the Federal Register notifying the public that the agency is modifying an existing information collection for OMB review and approval and requests public review and comment on the submission. Comments are being solicited on the need for the information; the accuracy of OPIC's burden estimate; the quality, practical utility, and clarity of the information to be collected; and ways to minimize reporting the burden, including automated collection techniques and uses of other forms of technology.

The proposed change to OPIC-162 clarifies existing questions, incorporates sector-specific development impact questions and eliminates ineffective questions in an effort to harmonize development impact indicators with other Development Finance Institutions (“DFIs”). OPIC is a signatory to a “Memorandum of Understanding” with 25 partnering DFIs to harmonize development impact metrics where possible. The goal of this effort is to reduce the reporting burden on clients that receive financing from multiple DFIs and to instill best practices in the collection and the reporting on OPIC's developmental impacts. To minimize the reporting burden on respondents, OPIC has designed OPIC-162 as an electronic form with questions populating only if they relate to a project.

DATES: Comments must be received within sixty (60) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202) 336-8558.

SUPPLEMENTARY INFORMATION: All mailed comments and requests for copies of the subject form should include form number OPIC-162 on both the envelope and in the subject line of the letter. Electronic comments and requests for copies of the subject form may be sent to James.Bobbitt@opic.gov, subject line OPIC-162.

SUMMARY FORM UNDER REVIEW

Type of Request: Revision of a currently approved information collection.

Title: Self-Monitoring Questionnaire.

Form Number: OPIC-162.

Frequency of Use: One per investor per project annually.

Type of Respondents: Business or other institutions and individuals.

Standard Industrial Classification Codes: All.

Description of Affected Public: U.S. companies or citizens investing overseas.

Reporting Hours: 2,186 (4.7 hours per form).

Number of Responses: 465 per year.

Federal Cost: $48,518.

Authority for Information Collection: Sections 231, 231A, 239(d), and 240A of the Foreign Assistance Act of 1961, as amended.

Abstract (Needs and Uses): The Self-Monitoring Questionnaire is the principal document used by OPIC to monitor the developmental effects of OPIC's investment projects, monitor the economic effects on the U.S. economy, and collect information on compliance with environmental and labor policies.

Dated: January 27, 2016.
Nichole Skoyles,
Administrative Counsel, Department of Legal Affairs.

[FR Doc. 2016-01859 Filed 2-1-16; 8:45 am]

BILLING CODE 3210-01-P